DEPARTMENT OF HOUSING AND URBAN DEVELOPMENT

[Docket No. FR-5130-N-32]

Privacy Act; Notification of an Amendment to an Existing Privacy Act System of Records, Housing Counseling System Client Activity Reporting System

AGENCY: Office of the Chief Information Officer, HUD.

ACTION: Notification of Amendment to a Privacy Act System of Records, Housing Counseling System (HCS)/Client Activity Reporting (CAR) System.

SUMMARY: HUD proposes to amend one of its system of records subject to the Privacy Act of 1974 (5 U.S.C. 552a), as amended. HCS/CAR contains detailed characteristics of housing counseling clients that receive specific services from HUD-approved counseling agencies. The previous system of records was published at 78 FR 17366. The Department is modifying the system of records to include new capabilities for the system and to include a new “Purpose” captions, and an expansion on other captions for additional clarification purposes, to rename a new system manger in order to accurately identify the official responsible for managing the system. Additionally, updates are applied to the “Routine Use” caption, to expand the use of data to HUD approved entities for the purpose of conducting research and evaluation studies directly related to the participation and outcome of HUD's Housing Counseling Programs.

DATES: Effective Date: This action shall be effective without further notice on November 20, 2008 unless comments are received that would result in a contrary determination.

Comments Due Date: November 20, 2008.

ADDRESSES: Interested persons are invited to submit comments regarding this notice to the Rules Docket Clerk, Office of General Counsel, Department of Housing and Urban Development, 451 Seventh Street, SW., Room 10276, Washington, DC 20410-0500. Communications should refer to the above docket number and title. A copy of each communication submitted will be available for public inspection and copying between 8 a.m. and 5 p.m. weekdays at the above address.

FOR FURTHER INFORMATION CONTACT: Donna Robinson-Staton, Departmental Privacy Act Officer, 451 Seventh Street, SW., Room 2256, Washington, DC 20410, Telephone Number (202) 402-8047. (This is not a toll-free number.) A telecommunication device for hearing- and speech-impaired individuals (TTY) is available at (800) 877-8339 (Federal Information Relay Service).

SUPPLEMENTARY INFORMATION: Pursuant to the Privacy Act of 1974 (5 U.S.C. 552a), as amended notice is given that HUD proposes to establish a new system of records as identified as HCS Client Reporting System.

Title 5 U.S.C. 552a(e)(4) and (11) provide that the public be afforded a 30-day period in which to comment on the new system of records.

The new system report was submitted to the Office of Management and Budget (OMB), the Senate Committee on Governmental Affairs, and the House Committee on Government Reform pursuant to paragraph 4c of Appendix 1 to OMB Circular No. A-130, “Federal Responsibilities for Maintaining Records About Individuals,” July 25, 1994 (59 FR 37914).

Authority: 5 U.S.C. 552a 88 Stat. 1896; 42 U.S.C. 3535(d).

Dated: October 10, 2008.
Lisa Schlosser,
Chief Information Officer.

HUD/HS-22

System name:

Housing Counseling System (HCS) with a sub-module as a database naming Client Activity Report System (CARS)

System location:

HUD Headquarters, Washington DC and Field Offices. In addition to these offices, HUD-approved counseling agencies in many cities, both voluntary and grant awarded by HUD, maintain files of this type. To determine whether such an agency exists in a particular city, contact the nearest HUD field office.

Categories of individuals covered by the system:

This system contains records of individuals who have been referred; individuals who have been or are receiving counseling; assistance with housing problems and financial problems; and individuals seeking debt and mortgage information.

Categories of records in the system:

This system contains records on the counseling agency profiles, grant award processes and client counseling performances. It contains information on the clients participating in the program; such as, name, address, household demographics (age, gender, race, ethnicity, income, assets, marital status, education, current work status, number of dependents, living situation and costs); financial information (gross monthly income, amount in savings, amount in retirement accounts, monthly rent paid, monthly utilities paid, mortgage payment status); Social Security Number, homeownership status, program status information, counseling agency ID, employment history of counselor, Born in U.S., English as primary language, homeownership status, foreclosure status; name, address, and telephone numbers of two relatives or friends for future follow-up.

Authority for maintenance of the system:

Section 106(a) of the 1968 Housing Act; 12 U.S.C. 1701.

Purpose:

Is to administer Housing Counseling Assistance to enable anyone who wants to (or already does) rent or own housing—whether through a HUD program, a Veterans Affairs program, other Federal programs, a State or local program, or the regular private market—to get the counseling they need to make their rent or mortgage payments and to be a responsible tenant or owner in other ways. The counseling is provided by HUD-approved housing counseling agencies.

Three strategic goals undergird the programs: (1) To improve the quality of renter and homeowner education, (2) to develop a reliable stream of funding and resources for counseling agencies, and (3) to enhance coordination among local housing providers. HUD intends that these strategies together will create a new expectation among mortgage lenders and insurers, homebuilders, real estate brokers, nonprofit organizations, and government agencies: to make counseling an integral part of services for potential renters and homebuyers.

Routine uses of records maintained in the system, including categories of users and the purposes of such uses:

See Routine Uses paragraphs in prefatory statement. Other routine uses:

• For Pooling current agency contact information for the public awareness, monitoring agency grant spending, monitoring agency performance in client counseling;

• To HUD systems such as, CHUMS, and Office of the Chief Financial Officer (CFO) to allow lending institutions verification of HUD programs for agencies;

• To the Office of Policy Development and Research, individual under contract with funds provided by HUD for the preparation of studies and statistical reports directly related to the management of HUD's Housing Counseling Program.

Policies and practices for storing, retrieving, accessing, retaining, and disposing of records in the system:

All documents are stored electronically in secure locations—there will be no retaining of paper copies.

Safeguards:

During the counseling process and the retention period, records are maintained in confidential files with access limited to those whose official duties require access. Data transmitted from agencies will have SSN and other client identification data encrypted to conceal this information. Access to the system is password/ID controlled.

Retrieving:

Name, Case Number, Client property address

Retention and disposal:

Counseling records are maintained by the counseling agency for as long as the individual being counseled participates in the program and up to five (5) years thereafter. The Department may maintain summary records of the counseling for as long as the individual being counseled lives in HUD-insured or assisted property.

System manager(s) and address:

George Grotheer, Program Manager, Single Family Housing Program Support Division, HUPH 451 Seventh Street, SW., Room 9274, Washington, DC 20410. Phone: 202-402-2294

Notification procedure:

For information, assistance, or inquiry about existence of records, contact the Privacy Act Officer at the appropriate location, in accordance with 24 CFR part 16.

Record access procedures:

The Department's rules for providing access to records to the individual concerned appear in 24 CFR part 16. If additional information or assistance is required, contact the Privacy Act Officer at the appropriate location.

Contesting record procedures:

The Department's rules for contesting the contents of records and appealing initial denials, by the individual concerned, appear in 24 CFR part 16. If additional information or assistance is needed, it may be obtained by contacting:

(i) In relation to contesting contents of records, the Departmental Privacy Act, Department of Housing and Urban Development, 451 Seventh Street SW., Room 2256, Washington, DC 20410

(ii) in relation to appeals of initial denials, the HUD Departmental Privacy Appeals Officers, Office of General Counsel, Department of Housing and Urban Development, 451 Seventh Street SW., Washington, DC 20410.

Record source categories:

Information in this system of records is: (1) Supplied directly by the individual, and/or (2) supplied by Housing Counseling Agency, and/or (3) supplied by HUD system users.

Exemption from certain provisions of the Act:

None.

[FR Doc. E8-24938 Filed 10-20-08; 8:45 am]

BILLING CODE 4210-67-P